ENVIRONMENTAL PROTECTION AGENCY

40 CFR Part 745

[EPA-HQ-OPPT-2005-0049; FRL-8368-9]

RIN 2070-AC83

Small Entity Compliance Guide to Renovate Right: EPA’s Lead-Based Paint Renovation, Repair, and Painting Program; Notice of Availability

AGENCY: Environmental Protection Agency (EPA).

ACTION: Notice of availability.

SUMMARY: EPA is issuing a notice of availability of its Small Entity Compliance Guide to Renovate Right: EPA’s Lead-Based Paint Renovation, Repair, and Painting Program (hereinafter referred to as the “small entity compliance guide”). This small entity compliance guide is for contractors, painters, property managers, maintenance personnel, and other professionals that disturb painted surfaces while working in homes and child-occupied facilities, such as child care centers and schools, built before 1978. The small entity compliance guide was developed by EPA to help small entities comply with the new Lead-Based Paint Renovation, Repair, and Painting Program requirements published in the April 22, 2008 Federal Register. This document is published by the EPA as the official compliance guide for small entities, pursuant to section 212 of the Small Business Regulatory Enforcement Fairness Act of 1996 (SBREFA), as amended.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Mike Wilson, National Program Chemicals Division (7404T), Office of Pollution Prevention and Toxics, Environmental Protection Agency, 1200 Pennsylvania Ave., NW., Washington, DC 20460-0001; telephone number: (202) 566-0521; e-mail address: wilson.mike@epa.gov.

SUPPLEMENTARY INFORMATION:

I. General Information

A. Does this Action Apply to Me?

You may be potentially affected by this action if you perform renovations of target housing or child-occupied facilities for compensation. ‘‘Target housing’’ is defined in section 401 of the Toxic Substances Control Act (TSCA) as any housing constructed prior to 1978, except housing for the elderly or persons with disabilities (unless any child under age 6 resides or is expected to reside in such housing) or any 0-bedroom dwelling. “Child-occupied facility” is defined by the Lead-Based Paint Renovation, Repair, and Painting Program as a building or a portion of a building, constructed prior to 1978, visited regularly by the same child, under 6 years of age, on at least 2 different days within any week (Sunday through Saturday period), provided that each day’s visit lasts at least 3 hours and the combined weekly visits last at least 6 hours, and the combined annual visits last at least 60 hours. Child-occupied facilities may be located in public or commercial buildings or in target housing. The definition of child-occupied facilities also includes common areas routinely used by children under age 6 and portions of the exterior that are immediately adjacent to the child-occupied facility or covered common area. Potentially affected entities may include, but are not limited to:

• Building construction (NAICS code 236), e.g., single family housing construction, multi-family housing construction, residential remodelers.

• Specialty trade contractors (NAICS code 238), e.g., plumbing, heating, and air-conditioning contractors, painting and wall covering contractors, electrical contractors, finish carpentry contractors, drywall and insulation contractors, siding contractors, tile and terrazzo contractors, glass and glazing contractors.

• Real estate (NAICS code 531), e.g., lessors of residential buildings and dwellings, residential property managers.

• Child day care services (NAICS code 624410).

• Elementary and secondary schools (NAICS code 611110), e.g., elementary schools with kindergarten classrooms.

• Other technical and trade schools (NAICS code 611519), e.g., training providers.

• Engineering services (NAICS code 541330) and building inspection services (NAICS code 541350), e.g., dust sampling technicians.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in the Lead; Renovation, Repair, and Painting Program final rule (40 CFR part 745, subpart E). If you have any questions regarding the applicability of this action to a particular entity, consult the technical person listed under FOR FURTHER INFORMATION CONTACT.

B. How Can I Get Copies of the Compliance Guide and Other Related Information?

1. Docket. EPA has established a docket for this action under docket identification (ID) number EPA-HQ-OPPT-2005-0049. All documents in the docket are listed in the docket's index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

3. Small entity compliance guide. The small entity compliance guide is available on EPA's website at http://www.epa.gov/lead/pubs/renovation and may be reproduced by an individual or corporation without permission from EPA.

II. Background

In the Federal Register of April 22, 2008 (73 FR 21692) (FRL-8355-7), EPA issued the Lead; Renovation, Repair, and Painting Program final rule (40 CFR part 745, subpart E) that applies to renovations performed for compensation in target housing and child-occupied facilities built before 1978 by requiring, among other things:

• Training for renovators.

• Certification of renovators and firms.

• Accreditation of training providers.

• Use of renovation work practice standards, such as posting warning signs; containing work areas so that no dust or debris leaves the work area while the renovation is being performed; prohibiting certain high dust-generating work practices; and a cleanup and cleaning verification protocol.

The final rule is effective June 23, 2008. However, certain provisions of the final rule, such as requiring the use of the work practices, do not become effective until April 22, 2010.

EPA examined the economic implications of that final rule as required by the Regulatory Flexibility Act (5 U.S.C. 601-602). The Agency concluded that a substantial number of small entities will be affected by the final rule.

Pursuant to section 212 of SBREFA (Public Law 104-121, as amended), EPA is making available a small entity compliance guide, summarizing in plain language the requirements of the final rule.

The small entity compliance guide represents the Agency's current thinking on the subject. It does not create or confer any rights for or on any person and does not operate to bind EPA or the public.

List of Subjects in 40 CFR Part 745

Environmental protection, Child-occupied facility, Housing renovation, Lead, Lead-based paint, Renovation, Reporting and recordkeeping requirements.

Dated: June 20, 2008.
James B. Gulliford,
Assistant Administrator, Office of Prevention, Pesticides and Toxic Substances.

[FR Doc. E8-14507 Filed 6-25-08; 8:45 am]

BILLING CODE 6560-50-S